DEPARTMENT OF ENERGY

Federal Energy Regulatory Commission

Combined Notice of Filings #1

Take notice that the Commission received the following Complaints and Compliance filings in EL Dockets:

Docket Numbers: EL23-30-000; QF23-284-001.

Applicants: WED Coventry Five, LLC, WED Coventry Five, LLC.

Description: WED Coventry Five, LLC submits Petition for Declaratory Order.

Filed Date: 2/1/23.

Accession Number: 20230201-5250.

Comment Date: 5 p.m. ET 3/3/23.

Take notice that the Commission received the following electric rate filings:

Docket Numbers: ER10-1355-014.

Applicants: Southern California Edison Company.

Description: Notice of Change in Status of Southern California Edison Company.

Filed Date: 1/31/23.

Accession Number: 20230131-5499.

Comment Date: 5 p.m. ET 2/21/23.

Docket Numbers: ER10-1437-013.

Applicants: Tampa Electric Company.

Description: Notice of Change in Status of Tampa Electric Company.

Filed Date: 1/31/23.

Accession Number: 20230131-5495.

Comment Date: 5 p.m. ET 2/21/23.

Docket Numbers: ER10-1484-028; ER12-2381-014; ER13-1069-017; ER14-1140-004.

Applicants: Inspire Energy Holdings, LLC, MP2 Energy LLC, MP2 Energy NE LLC, Shell Energy North America (US), L.P.

Description: Notice of Non-Material Change in Status of Shell Energy North America (US), L.P., et al.

Filed Date: 1/31/23.

Accession Number: 20230131-5479.

Comment Date: 5 p.m. ET 2/21/23.

Docket Numbers: ER10-1586-010; ER10-1630-010.

Applicants: Wolf Hills Energy, LLC, Big Sandy Peaker Plant, LLC.

Description: Notice of Change in Status of Big Sandy Peaker Plant, LLC, et al.

Filed Date: 1/31/23.

Accession Number: 20230131-5482.

Comment Date: 5 p.m. ET 2/21/23.

Docket Numbers: ER10-1790-022; ER10-2273-004; ER10-2468-004; ER10-2481-006; ER10-2597-006; ER10-3196-004; ER11-1853-001; ER11-2041-017; ER11-2042-017; ER12-1825-036; ER12-2200-008; ER13-33-007; ER14-1317-011; ER14-2672-023; ER15-2483-003; ER21-1716-004; ER22-2519-001.

Applicants: Bellflower Solar 1, LLC, BP Energy Retail LLC, Emerald City Renewables LLC, BP Energy Retail Company LLC, Sunshine Gas Producers, LLC, Collegiate Clean Energy, LLC, Mehoopany Wind Energy LLC, BP Energy Retail Company California LLC, Seneca Energy, II LLC, Innovative Energy Systems, LLC, Fowler Ridge II Wind Farm LLC, PEI Power LLC, Fowler Ridge III Wind Farm LLC, Ingenco Wholesale Power, L.L.C., Fowler Ridge Wind Farm LLC, PEI Power II, LLC, BP Energy Company.

Description: Notice of Change in Status of BP Energy Company, et al.

Filed Date: 1/31/23.

Accession Number: 20230131-5498.

Comment Date: 5 p.m. ET 2/21/23.

Docket Numbers: ER10-1852-075; ER10-1951-053; ER11-4462-075; ER17-838-050.

Applicants: NextEra Energy Marketing, LLC, NEPM II, LLC, NextEra Energy Services Massachusetts, LLC, Florida Power & Light Company.

Description: Notice of Change in Status of Florida Power & Light Company, et al.

Filed Date: 2/1/23.

Accession Number: 20230201-5254.

Comment Date: 5 p.m. ET 2/22/23.

Docket Numbers: ER10-2126-007.

Applicants: Idaho Power Company.

Description: Notice of Change in Status of Idaho Power Company.

Filed Date: 1/31/23.

Accession Number: 20230131-5485.

Comment Date: 5 p.m. ET 2/21/23.

Docket Numbers: ER10-2374-018.

Applicants: Puget Sound Energy, Inc.

Description: Notice of Non-Material Change in Status of Puget Sound Energy, Inc.

Filed Date: 1/31/23.

Accession Number: 20230131-5477.

Comment Date: 5 p.m. ET 2/21/23.

Docket Numbers: ER10-2984-062.

Applicants: Merrill Lynch Commodities, Inc.

Description: Notice of Non-Material Change in Status of Merrill Lynch Commodities, Inc.

Filed Date: 1/31/23.

Accession Number: 20230131-5488.

Comment Date: 5 p.m. ET 2/21/23.

Docket Numbers: ER11-2753-010; ER12-1316-009.

Applicants: Silver State Solar Power North, LLC, Cedar Point Wind, LLC.

Description: Notice of Change in Status of Cedar Point Wind, LLC, et al.

Filed Date: 1/31/23.

Accession Number: 20230131-5483.

Comment Date: 5 p.m. ET 2/21/23.

Docket Numbers: ER11-3859-022; ER14-1699-012; ER18-920-012.

Applicants: Marco DM Holdings, L.L.C., Milford Power, LLC, Dighton Power, LLC.

Description: Notice of Change in Status of Dighton Power, LLC, et al.

Filed Date: 1/31/23.

Accession Number: 20230131-5472.

Comment Date: 5 p.m. ET 2/21/23.

Docket Numbers: ER12-2178-017; ER10-2178-040; ER10-2192-040; ER13-1536-024.

Applicants: Exelon Generation Company, LLC, Constellation Energy Commodities Group Maine, LLC, Constellation NewEnergy, Inc., AV Solar Ranch 1, LLC.

Description: Notice of Change in Status of AV Solar Ranch 1, LLC, et al.

Filed Date: 1/31/23.

Accession Number: 20230131-5493.

Comment Date: 5 p.m. ET 2/21/23.

Docket Numbers: ER14-41-008; ER14-42-008; ER16-498-007; ER16-499-007; ER16-500-007; ER16-2277-001; ER16-2289-002; ER16-2393-001; ER17-227-001; ER18-1174-002; ER20-2448-003; ER21-133-003; ER21-736-004; ER21-1962-004; ER21-2634-002; ER22-2784-001.

Applicants: MN8 Energy Marketing LLC, Solar Star Lost Hills, LLC, Mulberry BESS LLC, RE Slate 1 LLC, HDSI, LLC, American Kings Solar, LLC, Imperial Valley Solar 2, LLC, Innovative Solar 47, LLC, Innovative Solar 31, LLC, Golden Fields Solar I, LLC, Solar Star California XLI, LLC, RE Mustang 4 LLC, RE Mustang 3 LLC, RE Mustang LLC, RE Rosamond Two LLC, RE Rosamond One LLC.

Description: Notice of Non-Material Change in Status of RE Rosamond One LLC, et al.

Filed Date: 1/31/23.

Accession Number: 20230131-5497.

Comment Date: 5 p.m. ET 2/21/23.

Docket Numbers: ER14-1594-006; ER14-1596-006.

Applicants: Lone Valley Solar Park II LLC, Lone Valley Solar Park I LLC.

Description: Notice of Change in Status of Lone Valley Solar Park I LLC et al.

Filed Date: 1/31/23.

Accession Number: 20230131-5478.

Comment Date: 5 p.m. ET 2/21/23.

Docket Numbers: ER16-2226-004; ER21-2445-002.

Applicants: Glacier Sands Wind Power, LLC, McHenry Battery Storage, LLC.

Description: Notice of Non-Material Change in Status of McHenry Battery Storage, LLC, et al.

Filed Date: 1/31/23.

Accession Number: 20230131-5504.

Comment Date: 5 p.m. ET 2/21/23.

Docket Numbers: ER16-2703-007; ER15-2631-010; ER20-2379-005.

Applicants: Sugar Creek Wind One LLC, Odell Wind Farm, LLC, Deerfield Wind Energy, LLC.

Description: Notice of Change in Status of Deerfield Wind Energy, LLC, et al.

Filed Date: 1/31/23.

Accession Number: 20230131-5484.

Comment Date: 5 p.m. ET 2/21/23.

Docket Numbers: ER17-242-015; ER17-243-015; ER17-245-015; ER17-256-016; ER17-652-015.

Applicants: Lightstone Marketing LLC, Darby Power, LLC, Waterford Power, LLC, Lawrenceburg Power, LLC, Gavin Power, LLC.

Description: Notice of Change in Status of Gavin Power, LLC, et al.

Filed Date: 1/31/23.

Accession Number: 20230131-5500.

Comment Date: 5 p.m. ET 2/21/23.

Docket Numbers: ER17-1531-008; ER13-342-017; ER13-343-013; ER22-729-001; ER22-784-002.

Applicants: CPV Maple Hill Solar, LLC, CPV Retail Energy LP, CPV Maryland, LLC, CPV Shore, LLC, CPV Fairview, LLC.

Description: Notice of Change in Status of CPV Fairview, LLC, et al.

Filed Date: 1/31/23.

Accession Number: 20230131-5473.

Comment Date: 5 p.m. ET 2/21/23.

Docket Numbers: ER17-2011-001; ER17-2012-001; ER17-2015-001.

Applicants: Roseton Generating LLC, Rensselaer Generating LLC, Castleton Commodities Merchant Trading L.P.

Description: Notice of Non-Material Change in Status of Castleton Commodities Merchant Trading L.P., et al.

Filed Date: 1/31/23.

Accession Number: 20230131-5476.

Comment Date: 5 p.m. ET 2/21/23.

Docket Numbers: ER18-2064-001.

Applicants: Uniper Global Commodities North America LLC.

Description: Notice of Non-Material Change in Status of Uniper Global Commodities North America, LLC.

Filed Date: 1/31/23.

Accession Number: 20230131-5489.

Comment Date: 5 p.m. ET 2/21/23.

Docket Numbers: ER19-2557-003.

Applicants: Missisquoi, LLC.

Description: Notice of Change in Status of Missisquoi, LLC.

Filed Date: 1/31/23.

Accession Number: 20230131-5475.

Comment Date: 5 p.m. ET 2/21/23.

Docket Numbers: ER20-391-007; ER21-2557-002; ER22-2662-002; ER22-2663-002; ER22-2664-002.

Applicants: Aron Energy Prepay 16 LLC, Aron Energy Prepay 15 LLC, Aron Energy Prepay 14 LLC, Aron Energy Prepay 5 LLC, J. Aron & Company LLC.

Description: Notice of Non-Material Change in Status of J. Aron & Company LLC, et al.

Filed Date: 1/31/23.

Accession Number: 20230131-5492.

Comment Date: 5 p.m. ET 2/21/23.

Docket Numbers: ER20-479-003; ER11-2657-013; ER19-2214-002; ER20-481-003; ER20-482-003; ER20-484-003; ER20-1650-004; ER20-2098-002; ER22-1523-002; ER22-1549-002; ER22-2643-001.

Applicants: Three Corners Solar, LLC, Sun Streams PVS, LLC, Sun Streams 2, LLC, Titan Solar 1, LLC, Little Bear Master Tenant, LLC, Little Bear Solar 5, LLC, Little Bear Solar 4, LLC, Little Bear Solar 3, LLC, Milford Wind Corridor Phase I, LLC, Milford Wind Corridor Phase II, LLC, Little Bear Solar 1, LLC.

Description: Notice of Non-Material Change in Status of Little Bear Solar 1, LLC, et al.

Filed Date: 1/31/23.

Accession Number: 20230131-5502.

Comment Date: 5 p.m. ET 2/21/23.

Docket Numbers: ER20-711-002.

Applicants: Cambria Wind, LLC.

Description: Notice of Change in Status of Cambria Wind, LLC.

Filed Date: 1/31/23.

Accession Number: 20230131-5501.

Comment Date: 5 p.m. ET 2/21/23.

Docket Numbers: ER20-1977-004.

Applicants: Versant Power.

Description: Compliance filing: Revised Joint Offer of Settlement for MPD OATT Attach. J Protocols (ER20-1977) to be effective 6/1/2021.

Filed Date: 2/2/23.

Accession Number: 20230202-5016.

Comment Date: 5 p.m. ET 2/23/23.

Docket Numbers: ER21-9-003; ER21-86-003; ER21-88-003.

Applicants: Orange County Energy Storage 3 LLC, Orange County Energy Storage 2 LLC, Henrietta D Energy Storage LLC.

Description: Notice of Non-Material Change in Status of Henrietta D Energy Storage LLC, et al.

Filed Date: 1/31/23.

Accession Number: 20230131-5487.

Comment Date: 5 p.m. ET 2/21/23.

Docket Numbers: ER22-13-001.

Applicants: Regan Solar, LLC.

Description: Notice of Non-Material Change in Status of Regan Solar, LLC.

Filed Date: 1/31/23.

Accession Number: 20230131-5490.

Comment Date: 5 p.m. ET 2/21/23.

Docket Numbers: ER22-1539-001.

Applicants: NRG Power Marketing LLC.

Description: Compliance filing: Format Issues to be effective 6/1/2022.

Filed Date: 2/2/23.

Accession Number: 20230202-5049.

Comment Date: 5 p.m. ET 2/23/23.

Docket Numbers: ER22-1883-002.

Applicants: Ledyard Windpower, LLC.

Description: Notice of Non-Material Change in Status of Ledyard Windpower, LLC.

Filed Date: 1/30/23.

Accession Number: 20230130-5302.

Comment Date: 5 p.m. ET 2/21/23.

Docket Numbers: ER22-1927-001; ER22-1929-001.

Applicants: Bracewell LLP, ENGIE Solidago Solar LLC, Bracewell LLP, Sunnybrook Farm Solar, LLC.

Description: Notice of Change in Status of Sunnybrook Farm Solar, LLC, et al.

Filed Date: 1/31/23.

Accession Number: 20230131-5491.

Comment Date: 5 p.m. ET 2/21/23.

Docket Numbers: ER22-1982-003; ER18-882-016; ER18-2314-011; ER21-2048-006.

Applicants: Sac County Wind, LLC, Sholes Wind Energy, LLC, Elk City Renewables II, LLC, Great Prairie Wind, LLC.

Description: Notice of Change in Status of Great Prairie Wind, LLC, et al.

Filed Date: 1/31/23.

Accession Number: 20230131-5494.

Comment Date: 5 p.m. ET 2/21/23.

Docket Numbers: ER22-2042-002.

Applicants: Jackpot Holdings, LLC.

Description: Notice of Non-Material Change in Status of Jackpot Holdings LLC.

Filed Date: 1/30/23.

Accession Number: 20230130-5303.

Comment Date: 5 p.m. ET 2/21/23.

Docket Numbers: ER22-2091-002.

Applicants: Calhoun Solar Energy LLC.

Description: Notice of Change in Status of Calhoun Solar Energy LLC.

Filed Date: 1/31/23.

Accession Number: 20230131-5470.

Comment Date: 5 p.m. ET 2/21/23.

Docket Numbers: ER23-566-001.

Applicants: AEP Texas Inc.

Description: Tariff Amendment: AEPTX-Coleman County EC-Golden Spread EC 2nd A&R IA—Amend Pending to be effective 11/17/2022.

Filed Date: 2/2/23.

Accession Number: 20230202-5070.

Comment Date: 5 p.m. ET 2/23/23.

Docket Numbers: ER23-589-001.

Applicants: PJM Interconnection, L.L.C.

Description: Tariff Amendment: Request to Defer Action: Amended ISA No. 4322; Queue No. Z1-036; Docket ER23-589 to be effective 12/31/9998.

Filed Date: 2/2/23.

Accession Number: 20230202-5071.

Comment Date: 5 p.m. ET 2/23/23.

Docket Numbers: ER17-1981-002; ER17-1984-002; ER17-1988-002; ER22-2505-001; ER22-2506-001; ER22-2827-002.

Applicants: Bluegrass Solar, LLC, Vitol Inc., Big Sky Wind, LLC, Patton Wind Farm, LLC, Highland North LLC, Big Savage, LLC.

Description: Notice of Change in Status of Big Savage, LLC, et al.

Filed Date: 1/31/23.

Accession Number: 20230131-5496.

Comment Date: 5 p.m. ET 2/21/23.

Docket Numbers: ER23-1034-000.

Applicants: PJM Interconnection, L.L.C.

Description: § 205(d) Rate Filing: Amendment to ISA, Service Agreement No. 6000; Queue No. AD2-116 to be effective 12/31/9998.

Filed Date: 2/2/23.

Accession Number: 20230202-5006.

Comment Date: 5 p.m. ET 2/23/23.

Docket Numbers: ER23-1035-000.

Applicants: PJM Interconnection, L.L.C.

Description: § 205(d) Rate Filing: Original NSA, Service Agreement No. 6762; Queue No. NQ72 to be effective 1/3/2023.

Filed Date: 2/2/23.

Accession Number: 20230202-5021.

Comment Date: 5 p.m. ET 2/23/23.

Docket Numbers: ER23-1036-000.

Applicants: NRG Power Marketing LLC.

Description: Compliance filing: Administrative Format Clean-Up to be effective 6/1/2022.

Filed Date: 2/2/23.

Accession Number: 20230202-5026.

Comment Date: 5 p.m. ET 2/23/23.

Docket Numbers: ER23-1037-000.

Applicants: Southwest Power Pool, Inc.

Description: § 205(d) Rate Filing: 3211R5 North Iowa Municipal Electric Cooperative Association NITSA and NOA to be effective 2/1/2023.

Filed Date: 2/2/23.

Accession Number: 20230202-5054.

Comment Date: 5 p.m. ET 2/23/23.

Docket Numbers: ER23-1038-000.

Applicants: PJM Interconnection, L.L.C.

Description: § 205(d) Rate Filing: Revisions to the Billing of Non-Performance Charges to be effective 4/4/2023.

Filed Date: 2/2/23.

Accession Number: 20230202-5055.

Comment Date: 5 p.m. ET 2/23/23.

Docket Numbers: ER23-1039-000.

Applicants: Stored Solar Tamworth, LLC.

Description: Notice of Cancellation of Market Based Rate Tariff of Stored Solar Tamworth, LLC.

Filed Date: 2/1/23.

Accession Number: 20230201-5253.

Comment Date: 5 p.m. ET 2/22/23.

Take notice that the Commission received the following electric securities filings:

Docket Numbers: ES23-29-000; ES23-30-000; ES23-31-000; ES23-32-000; ES23-33-000.

Applicants: Entergy Arkansas, LLC, Entergy Louisiana, LLC, Entergy Mississippi, LLC, Entergy New Orleans, LLC, Entergy Texas, Inc., Entergy Arkansas, LLC, Entergy Louisiana, LLC, Entergy Mississippi, LLC, Entergy New Orleans, LLC, Entergy Texas, Inc., Entergy Arkansas, LLC, Entergy Louisiana, LLC, Entergy Mississippi, LLC, Entergy New Orleans, LLC, Entergy Texas, Inc., Entergy Arkansas, LLC, Entergy Louisiana, LLC, Entergy Mississippi, LLC, Entergy New Orleans, LLC, Entergy Texas, Inc., Entergy Arkansas, LLC, Entergy Louisiana, LLC, Entergy Mississippi, LLC, Entergy New Orleans, LLC, Entergy Texas, Inc.

Description: Application Under Section 204 of the Federal Power Act for Authorization to Issue Securities of Entergy Arkansas, LLC, et al.

Filed Date: 1/30/23.

Accession Number: 20230130-5301.

Comment Date: 5 p.m. ET 2/21/23.

Docket Numbers: ES23-34-000.

Applicants: Monongahela Power Company.

Description: Application Under Section 204 of the Federal Power Act for Authorization to Issue Securities of Monongahela Power Company under ES23-34.

Filed Date: 1/31/23.

Accession Number: 20230131-5474.

Comment Date: 5 p.m. ET 2/21/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 2, 2023.
Debbie-Anne A. Reese,
Deputy Secretary.

[FR Doc. 2023-02654 Filed 2-7-23; 8:45 am]

BILLING CODE 6717-01-P